DEPARTMENT OF DEFENSE

Department of the Army, Corps of Engineers

Intent To Prepare an Environmental Impact Statement for the Kissimmee Basin Modified Water Control Plan, Okeechobee, Highlands, Polk, Osceola and Orange Counties, FL

AGENCY: Department of the Army, U.S. Army Corps of Engineers, DoD.

ACTION: Notice of Intent.

SUMMARY: The Jacksonville District, U.S. Army Corps of Engineers intends to prepare the Kissimmee Basin Modified Water Control Plan (KBMWCP) & Environmental Impacts Statement (EIS) to achieve a more acceptable balance among flood control, water supply, aquatic plant management, and natural resources. This document will include the operating criteria results of the Kissimmee Basin Modeling Operations Study (KBMOS) and the Lower Kissimmee River Operations Study (LKROS). The KBMWCP and EIS study is a cooperative effort between the U.S. Army Corps of Engineers and the South Florida Water Management District (SFWMD).

ADDRESSES: U.S. Army Corps of Engineers, Planning Division, Environmental Branch, P.O. Box 4970, Jacksonville, FL 32232-0019.

FOR FURTHER INFORMATION CONTACT: Diana Martuscelli by email at kbmwcp@usace.army.mil or by telephone at 904-232-1877.

SUPPLEMENTARY INFORMATION:

a. This Notice of Intent (NOI) constitutes a re-issue of the NOI titled: Intent To Prepare a Draft Environmental Impact Statement for the Modification of the Kissimmee Basin Structure Operating Criteria published in the Federal Register on August 3, 2005 (70 FR 44584).

b. The authorities to conduct this comprehensive analysis were granted under Section 1135 of the 1986 Water Resources Development Act (WRDA) and the 1992 WRDA.

c. Historically, lake levels within the Kissimmee Chain of Lakes (KCOL) fluctuated within a range of two to ten feet. The lakes had limited outflow capacities and functioned as natural detention reservoirs, allowing water storage in the wet season and continual release of water throughout the year. Under these natural conditions, lake levels would rise in the wet season and overflow to adjoining lands, creating broad, marshy connections between the lakes. These marshes were used by fish and wildlife for spawning and foraging. Flows would peak in October and November, and then decrease through the dry season. During dry periods and low water levels, connections between the lakes would disappear and bottom sediments would oxidize, preventing accumulation of organic material along the lake edge.

The C&SF Project dramatically altered the fluctuations and timing of discharges. Presently, water levels in the KCOL are regulated by nine structures. Eight of these structures are controlled by seven stage regulation schedules that define the operational criteria for managing lake levels for flood prevention. The current regulation schedules limit water level fluctuations between two to three feet.

d. The KBMWCP & EIS study aims to achieve a more acceptable balance among flood control, water supply, aquatic plant management, and natural resources.

e. All alternative plans will be reviewed under provisions of appropriate laws and regulations, including the Endangered Species Act, Fish and Wildlife Coordination Act, Clean Water Act, and Farmland Protection Policy Act.

f. The Draft EIS is expected to be available for public review in the 4th quarter of 2015. A public meeting will be held during the public review period. The exact location, date, and times of the public meeting will be announced in a public notice and local newspapers.

Scoping

a. A scoping letter will be used to invite comments from Federal, State, and local agencies, affected Indian tribes, and other interested private organizations and individuals.

b. Public scoping meetings will be held. Assistance for individuals with special needs or language translation will be available as needed by calling 904-232-1613. The exact location, date, and times of the public meeting will be announced in a public notice and local newspapers.

Agency Role: As the non-Federal sponsor and leading local expert, SFWMD will provide extensive information and assistance on the resources to be impacted, mitigation measures, and alternatives.

Dated: July 31, 2012.
Eric Summa,
Chief, Environmental Branch.

[FR Doc. 2012-19623 Filed 8-9-12; 8:45 am]

BILLING CODE 3720-58-P